DEPARTMENT OF TRANSPORTATION

Federal Highway Administration

Rescission of Finding of No Significant Impact for the I-5 Rose Quarter Improvement Project in Portland, Oregon

AGENCY: Federal Highway Administration (FHWA), DOT.

ACTION: Notice.

SUMMARY: The FHWA is issuing this notice to advise the public that it has rescinded the Finding of No Significant Impact (FONSI) for the I-5 Rose Quarter Improvement Project, a proposed highway project on Interstate 5 in Portland, Oregon.

FOR FURTHER INFORMATION CONTACT: Emily Cline, Environmental Program Manager, FHWA Oregon Division Office, 530 Center St. NE, Salem, OR 97301, Office Hours: 7:30 a.m. to 4:00 p.m., Office Phone: 503-316-2547, Email: Emily.cline@dot.gov. You may also contact Megan Channell, Rose Quarter Project Director, ODOT Region 1, 123 NW Flanders St., Portland, OR 97209, Office Phone: 971-233-6510, Office Hours, 8:00 a.m.-5:00 p.m., Email: Megan.Channell@odot.state.or.us.

SUPPLEMENTARY INFORMATION:

Electronic Access

An electronic copy of this document may be downloaded from the Office of the Federal Register's website at www.FederalRegister.gov and the Government Publishing Office's website at www.GovInfo.gov.

Background

On November 6, 2020, at 85 FR 71136, FHWA advised the public that it had prepared a Revised Environmental Assessment and a FONSI for the I-5 Rose Quarter Improvement Project. The proposed improvements would extend existing auxiliary lanes in the northbound and southbound directions to improve safety and operations on Interstate-5 (I-5) between Interstate 84 and Interstate 405, and make improvements to local streets to improve multimodal connections over I-5. Changes made to the project after the FONSI was issued necessitate vacating that finding and conducting additional analysis to account for altered environmental impacts before proceeding. A new decision under the National Environmental Policy Act and any other necessary Federal environmental determinations will be issued consistent with this additional analysis.

Phillip A. Ditzler,
Division Administrator, Federal Highway Administration.

[FR Doc. 2022-02528 Filed 2-7-22; 8:45 am]

BILLING CODE 4910-22-P